DEPARTMENT OF JUSTICE

Antitrust Division

Notice Pursuant to the National Cooperative Research and Production Act of 1993—Opendaylight Project, Inc.

Notice is hereby given that, on September 9, 2016 pursuant to Section 6(a) of the National Cooperative Research and Production Act of 1993, 15 U.S.C. 4301 et seq. (“the Act”), OpenDaylight Project, Inc. (“OpenDaylight”) has filed written notifications simultaneously with the Attorney General and the Federal Trade Commission disclosing changes in its membership. The notifications were filed for the purpose of extending the Act's provisions limiting the recovery of antitrust plaintiffs to actual damages under specified circumstances. Specifically, Baidu Online Network Technology (Beijing) Co., Ltd., Beijing, PEOPLE'S REPUBLIC OF CHINA; and China Mobile Communication Co., Ltd Research Institute, Beijing, PEOPLE'S REPUBLIC OF CHINA, have been added as parties to this venture.

Also, Radware Ltd., Telaviv, ISRAEL; Flextronics, Ebene, MAURITIUS; VMware Inc., Palo Alto, CA; and International Business Machines Inc., Endicott, NY, have withdrawn as parties to this venture.

No other changes have been made in either the membership or planned activity of the group research project. Membership in this group research project remains open, and OpenDaylight intends to file additional written notifications disclosing all changes in membership.

On May 23, 2013, OpenDaylight filed its original notification pursuant to Section 6(a) of the Act. The Department of Justice published a notice in the Federal Register pursuant to Section 6(b) of the Act on July 1, 2013 (78 FR 39326).

The last notification was filed with the Department on June 27, 2016. A notice was published in the Federal Register pursuant to Section 6(b) of the Act on July 25, 2016 (81 FR 48462).

Patricia A. Brink,
Director of Civil Enforcement, Antitrust Division.

[FR Doc. 2016-24721 Filed 10-12-16; 8:45 am]

BILLING CODE P